DEPARTMENT OF HEALTH AND HUMAN SERVICES

National Institutes of Health

Prospective Grant of Exclusive License: Inhibitors of the Plasmodial Surface Anion Channel as Antimalarials

AGENCY: National Institutes of Health, Public Health Service, HHS.

ACTION: Notice.

SUMMARY: This is notice, in accordance with 35 U.S.C. 209(c)(1) and 37 CFR 404.7(a)(1)(i), that the National Institutes of Health, Department of Health and Human Services, is contemplating the grant of an exclusive patent license to practice the inventions embodied in U.S. Provisional Patent Application No. 61/083,000, filed July 23, 2008 [HHS Ref. No. E-202-2008/0-US-01], now expired and PCT Patent Application No. PCT/US09/50637 [HHS Ref. No. E-202-2008/0-PCT-02] filed July 15, 2009, which published as WO/2010/011537 on January 28, 2010, both applications entitled “Inhibitors of the Plasmodial Surface Anion Channel As Antimalarials,” and all continuing applications and foreign counterparts to Microbiotix, Inc., having a place of business in Worcester, Massachusetts. The patent rights in these inventions have been assigned to the United States of America.

The prospective exclusive license territory may be “worldwide”, and the field of use may be limited to “prevention and treatment of malaria in humans.”

DATES: Only written comments and/or applications for a license which are received by the NIH Office of Technology Transfer on or before February 11, 2011 will be considered.

ADDRESSES: Requests for copies of the patent application, inquiries, comments, and other materials relating to the contemplated exclusive license should be directed to: Kevin W. Chang, PhD, Senior Licensing and Patenting Manager, Office of Technology Transfer, National Institutes of Health, 6011 Executive Boulevard, Suite 325, Rockville, MD 20852-3804; Telephone: (301) 435-5018; Facsimile: (301) 402-0220; E-mail: changke@mail.nih.gov.

SUPPLEMENTARY INFORMATION: The subject technologies are antimalarial small molecule inhibitors of the plasmodial surface anion channel (PSAC), an essential nutrient acquisition ion channel expressed on human erythrocytes infected with malaria parasites. These inhibitors were discovered by high-throughput screening of chemical libraries and analysis of their ability to kill malaria parasites in culture. Two separate classes of inhibitors were found to work synergistically in combination against PSAC and killed malaria cultures at markedly lower concentrations than separately. These inhibitors have high affinity and specificity for PSAC and have acceptable cytotoxicity profiles.

The prospective exclusive license will be royalty bearing and will comply with the terms and conditions of 35 U.S.C. 209 and 37 CFR 404.7. The prospective exclusive license may be granted unless within thirty (30) days from the date of this published notice, the NIH receives written evidence and argument that establishes that the grant of the license would not be consistent with the requirements of 35 U.S.C. 209 and 37 CFR 404.7.

Applications for a license in the field of use filed in response to this notice will be treated as objections to the grant of the contemplated exclusive license. Comments and objections submitted to this notice will not be made available for public inspection and, to the extent permitted by law, will not be released under the Freedom of Information Act, 5 U.S.C. 552.

Dated: January 6, 2011.
Richard U. Rodriguez,
Director, Division of Technology Development and Transfer, Office of Technology Transfer, National Institutes of Health.

[FR Doc. 2011-549 Filed 1-11-11; 8:45 am]

BILLING CODE 4140-01-P